POSTAL REGULATORY COMMISSION

[Docket Nos. CP2021-131; CP2023-45; MC2025-230; K2025-228; MC2025-231; K2025-229; MC2025-232; K2025-230; MC2025-233; K2025-231; MC2025-234; K2025-232; MC2025-235; K2025-233; MC2025-236; K2025-234; MC2025-237; K2025-235; MC2025-238; K2025-236; MC2025-239; K2025-237; MC2025-240; K2025-238; MC2025-241; K2025-239; MC2025-242; K2025-240; MC2025-243; K2025-241; MC2025-244; K2025-242; MC2025-245; K2025-243; MC2025-246; K2025-244; MC2025-247; K2025-245; MC2025-248; K2025-246; MC2025-249; K2025-247; MC2025-250; K2025-248; MC2025-251; K2025-249; MC2025-252; K2025-250]

New Postal Products

AGENCY: Postal Regulatory Commission.

ACTION: Notice.

SUMMARY: The Commission is noticing a recent Postal Service filing for the Commission's consideration concerning a negotiated service agreement. This notice informs the public of the filing, invites public comment, and takes other administrative steps.

DATES: Comments are due: November 8, 2024.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Public Proceeding(s)

III. Summary Proceeding(s)

I. Introduction

Pursuant to 39 CFR 3041.405, the Commission gives notice that the Postal Service filed request(s) for the Commission to consider matters related to Competitive negotiated service agreement(s). The request(s) may propose the addition of a negotiated service agreement from the Competitive product list or the modification of an existing product currently appearing on the Competitive product list.

The public portions of the Postal Service's request(s) can be accessed via the Commission's website (http://www.prc.gov). Non-public portions of the Postal Service's request(s), if any, can be accessed through compliance with the requirements of 39 CFR 3011.301.¹

¹ See Docket No. RM2018-3, Order Adopting Final Rules Relating to Non-Public Information, June 27, 2018, Attachment A at 19-22 (Order No. 4679).

Section II identifies the docket number(s) associated with each Postal Service request, if any, that will be reviewed in a public proceeding as defined by 39 CFR 3010.101(p), the title of each such request, the request's acceptance date, and the authority cited by the Postal Service for each request. For each such request, the Commission appoints an officer of the Commission to represent the interests of the general public in the proceeding, pursuant to 39 U.S.C. 505 and 39 CFR 3000.114 (Public Representative). Section II also establishes comment deadline(s) pertaining to each such request.

The Commission invites comments on whether the Postal Service's request(s) identified in Section II, if any, are consistent with the policies of title 39. Applicable statutory and regulatory requirements include 39 U.S.C. 3632, 39 U.S.C. 3633, 39 U.S.C. 3642, 39 CFR part 3035, and 39 CFR part 3041. Comment deadline(s) for each such request, if any, appear in Section II.

Section III identifies the docket number(s) associated with each Postal Service request, if any, to add a standardized distinct product to the Competitive product list or to amend a standardized distinct product, the title of each such request, the request's acceptance date, and the authority cited by the Postal Service for each request. Standardized distinct products are negotiated service agreements that are variations of one or more Competitive products, and for which financial models, minimum rates, and classification criteria have undergone advance Commission review. See 39 CFR 3041.110(n); 39 CFR 3041.205(a). Such requests are reviewed in summary proceedings pursuant to 39 CFR 3041.325(c)(2) and 39 CFR 3041.505(f)(1). Pursuant to 39 CFR 3041.405(c)-(d), the Commission does not appoint a Public Representative or request public comment in proceedings to review such requests.

II. Public Proceeding(s)

1. Docket No(s).: CP2021-131; Filing Title: Request of the United States Postal Service Concerning Modification Three to Global Reseller Expedited Package 2 Negotiated Service Agreement, Which Includes an Extension of that Agreement; Filing Acceptance Date: October 31, 2024; Filing Authority: 39 CFR 3035.105, 39 CFR 3041.505, and 39 CFR 3041.515; Public Representative: Katalin Clendenin; Comments Due: November 8, 2024.

2. Docket No(s).: CP2023-45; Filing Title: USPS Request Concerning Amendment Four to Priority Mail, First-Class Package Service & Parcel Select Contract 4, Filed Under Seal; Filing Acceptance Date: October 31, 2024; Filing Authority: 39 CFR 3035.105, 39 CFR 3041.310, and 39 CFR 3041.505; Public Representative: Jennaca Upperman; Comments Due: November 8, 2024.

3. Docket No(s).: MC2025-230 and K2025-228; Filing Title: USPS Request to Add Priority Mail Express, Priority Mail & USPS Ground Advantage Contract 591 to the Competitive Product List and Notice of Filing Materials Under Seal; Filing Acceptance Date: October 31, 2024; Filing Authority: 39 U.S.C. 3642, 39 CFR 3035.105, and 39 CFR 3041.310; Public Representative: Gregory Stanton; Comments Due: November 8, 2024.

4. Docket No(s).: MC2025-231 and K2025-229; Filing Title: USPS Request to Add Priority Mail Express, Priority Mail & USPS Ground Advantage Contract 592 to the Competitive Product List and Notice of Filing Materials Under Seal; Filing Acceptance Date: October 31, 2024; Filing Authority: 39 U.S.C. 3642, 39 CFR 3035.105, and 39 CFR 3041.310; Public Representative: Gregory Stanton; Comments Due: November 8, 2024.

5. Docket No(s).: MC2025-232 and K2025-230; Filing Title: USPS Request to Add Priority Mail Express, Priority Mail & USPS Ground Advantage Contract 593 to the Competitive Product List and Notice of Filing Materials Under Seal; Filing Acceptance Date: October 31, 2024; Filing Authority: 39 U.S.C. 3642, 39 CFR 3035.105, and 39 CFR 3041.310; Public Representative: Elsie Lee-Robbins; Comments Due: November 8, 2024.

6. Docket No(s).: MC2025-233 and K2025-231; Filing Title: USPS Request to Add Priority Mail Express, Priority Mail & USPS Ground Advantage Contract 594 to the Competitive Product List and Notice of Filing Materials Under Seal; Filing Acceptance Date: October 31, 2024; Filing Authority: 39 U.S.C. 3642, 39 CFR 3035.105, and 39 CFR 3041.310; Public Representative: Elsie Lee-Robbins; Comments Due: November 8, 2024.

7. Docket No(s).: MC2025-234 and K2025-232; Filing Title: USPS Request to Add Priority Mail & USPS Ground Advantage Contract 424 to the Competitive Product List and Notice of Filing Materials Under Seal; Filing Acceptance Date: October 31, 2024; Filing Authority: 39 U.S.C. 3642, 39 CFR 3035.105, and 39 CFR 3041.310; Public Representative: Samuel Robinson; Comments Due: November 8, 2024.

8. Docket No(s).: MC2025-235 and K2025-233; Filing Title: USPS Request to Add Priority Mail Express, Priority Mail & USPS Ground Advantage Contract 595 to the Competitive Product List and Notice of Filing Materials Under Seal; Filing Acceptance Date: October 31, 2024; Filing Authority: 39 U.S.C. 3642, 39 CFR 3035.105, and 39 CFR 3041.310; Public Representative: Christopher Mohr; Comments Due: November 8, 2024.

9. Docket No(s).: MC2025-236 and K2025-234; Filing Title: USPS Request to Add Priority Mail Express, Priority Mail & USPS Ground Advantage Contract 596 to the Competitive Product List and Notice of Filing Materials Under Seal; Filing Acceptance Date: October 31, 2024; Filing Authority: 39 U.S.C. 3642, 39 CFR 3035.105, and 39 CFR 3041.310; Public Representative: Elsie Lee-Robbins; Comments Due: November 8, 2024.

10. Docket No(s).: MC2025-237 and K2025-235; Filing Title: USPS Request to Add Priority Mail Express, Priority Mail & USPS Ground Advantage Contract 597 to the Competitive Product List and Notice of Filing Materials Under Seal; Filing Acceptance Date: October 31, 2024; Filing Authority: 39 U.S.C. 3642, 39 CFR 3035.105, and 39 CFR 3041.310; Public Representative: Jennaca Upperman; Comments Due: November 8, 2024.

11. Docket No(s).: MC2025-238 and K2025-236; Filing Title: USPS Request to Add Priority Mail Express, Priority Mail & USPS Ground Advantage Contract 598 to the Competitive Product List and Notice of Filing Materials Under Seal; Filing Acceptance Date: October 31, 2024; Filing Authority: 39 U.S.C. 3642, 39 CFR 3035.105, and 39 CFR 3041.310; Public Representative: Maxine Bradley; Comments Due: November 8, 2024.

12. Docket No(s).: MC2025-239 and K2025-237; Filing Title: USPS Request to Add Priority Mail & USPS Ground Advantage Contract 425 to the Competitive Product List and Notice of Filing Materials Under Seal; Filing Acceptance Date: October 31, 2024; Filing Authority: 39 U.S.C. 3642, 39 CFR 3035.105, and 39 CFR 3041.310; Public Representative: Christopher Mohr; Comments Due: November 8, 2024.

13. Docket No(s).: MC2025-240 and K2025-238; Filing Title: USPS Request to Add Priority Mail Express, Priority Mail & USPS Ground Advantage Contract 599 to the Competitive Product List and Notice of Filing Materials Under Seal; Filing Acceptance Date: October 31, 2024; Filing Authority: 39 U.S.C. 3642, 39 CFR 3035.105, and 39 CFR 3041.310; Public Representative: Jana Slovinska; Comments Due: November 8, 2024.

14. Docket No(s).: MC2025-241 and K2025-239; Filing Title: USPS Request to Add Priority Mail & USPS Ground Advantage Contract 426 to the Competitive Product List and Notice of Filing Materials Under Seal; Filing Acceptance Date: October 31, 2024; Filing Authority: 39 U.S.C. 3642, 39 CFR 3035.105, and 39 CFR 3041.310; Public Representative: Christopher Mohr; Comments Due: November 8, 2024.

15. Docket No(s).: MC2025-242 and K2025-240; Filing Title: USPS Request to Add Priority Mail Express, Priority Mail & USPS Ground Advantage Contract 600 to the Competitive Product List and Notice of Filing Materials Under Seal; Filing Acceptance Date: October 31, 2024; Filing Authority: 39 U.S.C. 3642, 39 CFR 3035.105, and 39 CFR 3041.310; Public Representative: Jennaca Upperman; Comments Due: November 8, 2024.

16. Docket No(s).: MC2025-243 and K2025-241; Filing Title: USPS Request to Add Priority Mail Express, Priority Mail & USPS Ground Advantage Contract 601 to the Competitive Product List and Notice of Filing Materials Under Seal; Filing Acceptance Date: October 31, 2024; Filing Authority: 39 U.S.C. 3642, 39 CFR 3035.105, and 39 CFR 3041.310; Public Representative: Gregory Stanton; Comments Due: November 8, 2024.

17. Docket No(s).: MC2025-244 and K2025-242; Filing Title: USPS Request to Add Priority Mail Express, Priority Mail & USPS Ground Advantage Contract 602 to the Competitive Product List and Notice of Filing Materials Under Seal; Filing Acceptance Date: October 31, 2024; Filing Authority: 39 U.S.C. 3642, 39 CFR 3035.105, and 39 CFR 3041.310; Public Representative: Gregory Stanton; Comments Due: November 8, 2024.

18. Docket No(s).: MC2025-245 and K2025-243; Filing Title: USPS Request to Add Priority Mail Express, Priority Mail & USPS Ground Advantage Contract 603 to the Competitive Product List and Notice of Filing Materials Under Seal; Filing Acceptance Date: October 31, 2024; Filing Authority: 39 U.S.C. 3642, 39 CFR 3035.105, and 39 CFR 3041.310; Public Representative: Almaroof Agoro; Comments Due: November 8, 2024.

19. Docket No(s).: MC2025-246 and K2025-244; Filing Title: USPS Request to Add Priority Mail & USPS Ground Advantage Contract 427 to the Competitive Product List and Notice of Filing Materials Under Seal; Filing Acceptance Date: October 31, 2024; Filing Authority: 39 U.S.C. 3642, 39 CFR 3035.105, and 39 CFR 3041.310; Public Representative: Christopher Mohr; Comments Due: November 8, 2024.

20. Docket No(s).: MC2025-247 and K2025-245; Filing Title: USPS Request to Add Priority Mail Express, Priority Mail & USPS Ground Advantage Contract 604 to the Competitive Product List and Notice of Filing Materials Under Seal; Filing Acceptance Date: October 31, 2024; Filing Authority: 39 U.S.C. 3642, 39 CFR 3035.105, and 39 CFR 3041.310; Public Representative: Almaroof Agoro; Comments Due: November 8, 2024.

21. Docket No(s).: MC2025-248 and K2025-246; Filing Title: USPS Request to Add Priority Mail Express, Priority Mail & USPS Ground Advantage Contract 605 to the Competitive Product List and Notice of Filing Materials Under Seal; Filing Acceptance Date: October 31, 2024; Filing Authority: 39 U.S.C. 3642, 39 CFR 3035.105, and 39 CFR 3041.310; Public Representative: Alain Brou; Comments Due: November 8, 2024.

22. Docket No(s).: MC2025-249 and K2025-247; Filing Title: USPS Request to Add Priority Mail Express, Priority Mail & USPS Ground Advantage Contract 606 to the Competitive Product List and Notice of Filing Materials Under Seal; Filing Acceptance Date: October 31, 2024; Filing Authority: 39 U.S.C. 3642, 39 CFR 3035.105, and 39 CFR 3041.310; Public Representative: Maxine Bradley; Comments Due: November 8, 2024.

23. Docket No(s).: MC2025-250 and K2025-248; Filing Title: USPS Request to Add Priority Mail Express, Priority Mail & USPS Ground Advantage Contract 607 to the Competitive Product List and Notice of Filing Materials Under Seal; Filing Acceptance Date: October 31, 2024; Filing Authority: 39 U.S.C. 3642, 39 CFR 3035.105, and 39 CFR 3041.310; Public Representative: Alain Brou; Comments Due: November 8, 2024.

24. Docket No(s).: MC2025-251 and K2025-249; Filing Title: USPS Request to Add Priority Mail Express, Priority Mail & USPS Ground Advantage Contract 608 to the Competitive Product List and Notice of Filing Materials Under Seal; Filing Acceptance Date: October 31, 2024; Filing Authority: 39 U.S.C. 3642, 39 CFR 3035.105, and 39 CFR 3041.310; Public Representative: Christopher Mohr; Comments Due: November 8, 2024.

25. Docket No(s).: MC2025-252 and K2025-250; Filing Title: USPS Request to Add Priority Mail Express, Priority Mail & USPS Ground Advantage Contract 609 to the Competitive Product List and Notice of Filing Materials Under Seal; Filing Acceptance Date: October 31, 2024; Filing Authority: 39 U.S.C. 3642, 39 CFR 3035.105, and 39 CFR 3041.310; Public Representative: Maxine Bradley; Comments Due: November 8, 2024.

III. Summary Proceeding(s)

None. See Section II for public proceedings.

This Notice will be published in the Federal Register.

Erica A. Barker,
Secretary.

[FR Doc. 2024-25861 Filed 11-6-24; 8:45 am]

BILLING CODE 7710-FW-P